DEPARTMENT OF THE INTERIOR

Fish and Wildlife Service

[FWS-R9-FHC-2009-N166; 71490-1351-0000-L5]

Letters of Authorization To Take Marine Mammals

AGENCY: Fish and Wildlife Service, Interior.

ACTION: Notice of issuance.

SUMMARY: In accordance with the Marine Mammal Protection Act of 1972, as amended (MMPA), we, the Fish and Wildlife Service, have issued letters of authorization to take polar bears and Pacific walrus incidental to oil and gas industry exploration, development, and production activities in the Beaufort Sea and adjacent northern coast of Alaska and incidental to oil and gas industry exploration activities in the Chukchi Sea and adjacent western coast of Alaska.

FOR FURTHER INFORMATION CONTACT: Craig Perham at the Fish and Wildlife Service, Marine Mammals Management Office, 1011 East Tudor Road, Anchorage, AK 99503; (800) 362-5148 or (907) 786-3810.

SUPPLEMENTARY INFORMATION: On August 2, 2006, we published in the Federal Register (71 FR 43926) a final rule establishing regulations that allow us to authorize the nonlethal, incidental, unintentional take of small numbers of polar bears and Pacific walrus during year-round oil and gas industry exploration, development, and production activities in the Beaufort Sea and adjacent northern coast of Alaska for 5 years from date of issuance of that rule. In accordance with that rule, section 101(a)(5)(A) of the MMPA, and our regulations at 50 CFR part 18, subpart J, we issued a letter of authorization (LOA) to the following companies in the Beaufort Sea and adjacent northern coast of Alaska.

Beaufort Sea, Letters of Authorization for 2008
Company | Activity | Project | Date issued
Denali—the Alaska Pipeline Group | Exploration | 2008 Hydrology study | Sept 15, 2008.
Brooks Range Petroleum Corp | Exploration | North Shore Sak River | Nov 1, 2008.
Pioneer Natural Resources Alaska, Inc | Production | Oooguruk Project | Dec 15, 2008.

Beaufort Sea, Letters of Authorization for 2009
Company | Activity | Project | Date issued
BP Exploration Alaska, Inc | Development | Liberty Development | Jan 7, 2009.
Shell Offshore, Inc | Exploration | On-ice Buoy Deployment | Jan 8, 2009.
ConocoPhillips Alaska, Inc | Exploration | Pioneer #1 | Jan 15, 2009.
ConocoPhillips Alaska, Inc | Exploration | Grandview 1 East | Jan 15, 2009.
ConocoPhillips Alaska, Inc | Development | CD5 Satellite Develop | Jan 15, 2009.
Savant Alaska, LLC | Exploration | Badami Redevelopment | Jan 16, 2009.
BP Exploration Alaska, Inc | Development | Challenge Is. well removal | Jan 15, 2009.
BP Exploration Alaska, Inc | Exploration | Winter seismic | Jan 15, 2009.
Brooks Range Petroleum Corp | Exploration | East Shore | Jan 15, 2009.
Brooks Range Petroleum Corp | Exploration | West Shore | Jan 15, 2009.
Brooks Range Petroleum Corp | Exploration | UltraStar | Jan 15, 2009.
Anadarko Petroleum Co | Exploration | Gubik, Chandler, Wolf Cr | Feb 3, 2009.
Kupik-Veritas DGC Land Inc | Exploration | SOI 3D seismic | Feb 4, 2009.
Kupik-Veritas DGC Land Inc | Exploration | Point Thomson 3D seismic | Feb 4, 2009.
Eni U.S, Operating Co, Inc | Development | Nikaitchuq | Feb 20, 2009.
ExxonMobil Production Co | Development | Point Thomson | Feb 4, 2009.
Marsh Creek, LLC | Development | Umiat Test Well 9 Remediation | Feb 24, 2009.
Marsh Creek, LLC | Development | Atigaru Point Test Well Remediation | Feb 24, 2009.
UltraStar Exploration, LLC | Exploration | Dewline Deep | Mar 26, 2009.
Alyeska Pipeline Service Co | Production | Trans-Alaska Pipeline | Mar 26, 2009.
Shell Offshore, Inc | Exploration | Scientific Data Device Deployment Program | Sept 3, 2009.

On June 11, 2008, we published in the Federal Register (73 FR 33212) a final rule establishing regulations that allow us to authorize the nonlethal, incidental, unintentional take of small numbers of polar bears and Pacific walrus during year-round oil and gas industry exploration activities in the Chukchi Sea and adjacent western coast of Alaska for 5 years from date of issuance of that rule. In accordance with that rule, section 101(a)(5)(A) of the MMPA, and our regulations at 50 CFR part 18, subpart I, we issued a letter of authorization (LOA) to the following companies in the Chukchi Sea.

Chukchi Sea, Letters of Authorization for 2009
Company | Activity | Project | Date issued
Shell Exploration and Production Co | Exploration | Marine Survey Program | July 16, 2009.
ConocoPhillips Alaska, Inc | Exploration | Site Clearance and Environmental Studies Program | Aug 6, 2009.

Dated: November 6, 2009.
Geoffrey L. Haskett,
Regional Director, Alaska Region.

[FR Doc. E9-29182 Filed 12-7-09; 8:45 am]

BILLING CODE 4310-55-P